DEPARTMENT OF HEALTH AND HUMAN SERVICES

Administration for Children and Families

Submission for Office of Management and Budget Review; Head Start Grant Application (Office of Management and Budget #0970-0207)

AGENCY: Office of Head Start, Administration for Children and Families, U.S. Department of Health and Human Services.

ACTION: Request for Public Comments.

SUMMARY: The Administration for Children and Families (ACF) is requesting a 3-year extension of the Grant Application Instrument and Instructions (Office of Management and Budget (OMB) #0970-0207, expiration June 30, 2025). The updated grant application reduces the amount of documentation required from grant recipients, both in the baseline application and the continuation application, by reducing the number of required documents to support the application and reducing the amount of required information in the program and budget justification narrative. The goal of these changes is to reduce grant recipient burden.

DATES: Comments due August 15, 2025. OMB must decide about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this information collection by selecting “Currently under 30-day Review—Open for Public Comments” or by using the search function. You can also obtain copies of the proposed collection of information by emailing infocollection@acf.hhs.gov. Identify all emailed requests by the title of the information collection.

SUPPLEMENTARY INFORMATION:

Description: To receive Head Start funding, Head Start grant recipients must apply for such funds through this information collection. The information submitted by applicants assist program and grant officials in determining whether the applicant meets the requirements for funding under the Act including any requirements specified in annual appropriations by Congress. The updated grant application reduces the amount of documentation required from grant recipients, both in the baseline application and the continuation application, by reducing the number of required documents to support the application and reducing the amount of required information in the program and budget justification narrative. The goal of these changes is to reduce grant recipient burden, and the burden estimates below have been updated to reflect this.

Respondents: Head Start grant recipients.

Annual Burden Estimates
Instrument | Total number of respondents | Total number of responses per respondent | Average burden hours per response | Annual burden hours
Head Start Grant Application | 1,600 | 2 | 20 | 64,000

Authority: 42 U.S.C. 9801 et seq.

Mary C. Jones,
ACF/OPRE Certifying Officer.

[FR Doc. 2025-13310 Filed 7-15-25; 8:45 am]

BILLING CODE 4184-40-P